DEPARTMENT OF LABOR

Employment and Training Administration

Workforce Investment Act; Lower Living Standard Income Level; Correction

AGENCY: Employment and Training Administration, Labor.

ACTION: Notice; correction.

SUMMARY: The Employment and Training Administration published a document in the Federal Register on April 25, 2008, concerning the 2008 Lower Living Standard Income Levels. The following are corrections to Tables 4 and 5.

FOR FURTHER INFORMATION CONTACT: Please contact Mr. Evan Rosenberg, telephone 202-693-3593; fax 202-693-3532 (these are not toll-free numbers).

Correction

In the Federal Register of April 25, 2008, FR Doc. E8-9076 on pages 22439 and 22441, replace Table 4 and Table 5 with the following:

Table 4.—70% LLSIL
Family of one | Family of two | Family of three | Family of four | Family of five | Family of six
$7,520 | $12,321 | $16,910 | $20,873 | $24,634 | $28,809
7,753 | 12,701 | 17,431 | 21,518 | 25,394 | 29,698
7,761 | 12,718 | 17,457 | 21,545 | 25,430 | 29,737
7,892 | 12,928 | 17,746 | 21,904 | 25,850 | 30,227
7,977 | 13,076 | 17,954 | 22,159 | 26,151 | 30,584
7,994 | 13,102 | 17,991 | 22,203 | 26,204 | 30,642
8,040 | 13,171 | 18,080 | 22,317 | 26,340 | 30,804
8,112 | 13,292 | 18,243 | 22,523 | 26,583 | 31,089
8,146 | 13,346 | 18,325 | 22,618 | 26,692 | 31,214
8,149 | 13,357 | 18,338 | 22,637 | 26,715 | 31,241
8,204 | 13,444 | 18,457 | 22,781 | 26,886 | 31,443
8,324 | 13,645 | 18,731 | 23,118 | 27,284 | 31,906
8,392 | 13,756 | 18,880 | 23,309 | 27,504 | 32,172
8,651 | 14,176 | 19,461 | 24,018 | 28,344 | 33,149
8,689 | 14,244 | 19,549 | 24,131 | 28,480 | 33,303
8,861 | 14,526 | 19,935 | 24,611 | 29,045 | 33,970
8,924 | 14,626 | 20,081 | 24,786 | 29,252 | 34,212
9,087 | 14,895 | 20,447 | 25,235 | 29,782 | 34,824
9,194 | 15,063 | 20,677 | 25,524 | 30,125 | 35,225
9,240 | 15,142 | 20,790 | 25,665 | 30,285 | 35,422
9,439 | 15,469 | 21,231 | 26,208 | 30,932 | 36,170
9,774 | 16,017 | 21,991 | 27,148 | 32,036 | 37,470
9,809 | 16,073 | 22,060 | 27,233 | 32,138 | 37,587
9,884 | 16,197 | 22,233 | 27,442 | 32,388 | 37,875
9,973 | 16,335 | 22,427 | 27,684 | 32,671 | 38,206
9,974 | 16,347 | 22,438 | 27,700 | 32,687 | 38,233
10,088 | 16,532 | 22,691 | 28,009 | 33,057 | 38,660
10,300 | 16,879 | 23,176 | 28,605 | 33,758 | 39,476
10,453 | 17,124 | 23,512 | 29,021 | 34,248 | 40,055
11,157 | 18,282 | 25,093 | 30,975 | 36,557 | 42,746
11,201 | 18,350 | 25,194 | 31,099 | 36,700 | 42,918
11,957 | 19,594 | 26,895 | 33,201 | 39,180 | 45,820
12,006 | 19,669 | 27,002 | 33,335 | 39,338 | 46,010

Table 5.—100% LLSIL
Family of one | Family of two | Family of three | Family of four | Family of five | Family of six
$10,743 | $17,601 | $24,157 | $29,819 | $35,191 | $41,155
11,075 | 18,144 | 24,902 | 30,740 | 36,277 | 42,425
11,087 | 18,169 | 24,938 | 30,779 | 36,328 | 42,481
11,274 | 18,469 | 25,351 | 31,291 | 36,928 | 43,182
11,396 | 18,680 | 25,649 | 31,656 | 37,359 | 43,691
11,420 | 18,717 | 25,702 | 31,719 | 37,434 | 43,774
11,486 | 18,815 | 25,829 | 31,881 | 37,629 | 44,005
11,589 | 18,988 | 26,062 | 32,176 | 37,975 | 44,413
11,637 | 19,065 | 26,178 | 32,312 | 38,131 | 44,591
11,642 | 19,082 | 26,197 | 32,338 | 38,164 | 44,630
11,720 | 19,205 | 26,367 | 32,544 | 38,409 | 44,918
11,892 | 19,493 | 26,759 | 33,026 | 38,977 | 45,580
11,988 | 19,651 | 26,972 | 33,298 | 39,292 | 45,960
12,358 | 20,251 | 27,801 | 34,312 | 40,491 | 47,356
12,413 | 20,348 | 27,927 | 34,473 | 40,685 | 47,575
12,658 | 20,752 | 28,478 | 35,158 | 41,493 | 48,528
12,749 | 20,894 | 28,687 | 35,409 | 41,789 | 48,875
12,981 | 21,278 | 29,210 | 36,050 | 42,546 | 49,749
13,134 | 21,518 | 29,539 | 36,463 | 43,035 | 50,322
13,200 | 21,632 | 29,700 | 36,664 | 43,264 | 50,603
13,484 | 22,099 | 30,330 | 37,441 | 44,188 | 51,672
13,963 | 22,882 | 31,416 | 38,783 | 45,765 | 53,528
14,013 | 22,961 | 31,514 | 38,904 | 45,911 | 53,696
14,120 | 23,139 | 31,762 | 39,203 | 46,268 | 54,107
14,247 | 23,336 | 32,039 | 39,549 | 46,673 | 54,580
14,248 | 23,353 | 32,054 | 39,572 | 46,696 | 54,619
14,411 | 23,617 | 32,416 | 40,013 | 47,224 | 55,228
14,714 | 24,113 | 33,109 | 40,864 | 48,226 | 56,394
14,933 | 24,463 | 33,588 | 41,459 | 48,926 | 57,222
15,938 | 26,117 | 35,847 | 44,250 | 52,224 | 61,066
16,001 | 26,214 | 35,991 | 44,428 | 52,428 | 61,311
17,081 | 27,991 | 38,422 | 47,430 | 55,971 | 65,457
17,151 | 28,099 | 38,574 | 47,622 | 56,197 | 65,728

Signed in Washington, DC, this 5th day of June 2008.
Brent R. Orrell,
Acting Assistant Secretary, Employment and Training Administration.

[FR Doc. E8-12986 Filed 6-9-08; 8:45 am]

BILLING CODE 4510-FT-P